DEPARTMENT OF JUSTICE

Antitrust Division

Notice Pursuant to the National Cooperative Research and Production Act of 1993—Inter Company Collaboration for Aids Drug Development

Notice is hereby given that, on March 6, 2001, pursuant to Section 6(a) of the National Cooperative Research and Production Act of 1993, 15 U.S.C. 4301 et seq. (“the Act”), the Inter Company Collaboration for AIDS Drug Development (the “Collaboration”) filed written notifications simultaneously with the Attorney General and the Federal Trade Commission disclosing changes in its membership status. The notifications were filed for the purpose of extending the Act's provisions limiting the recovery of antitrust plaintiffs to actual damages under specified circumstances. Specifically, although no changes have been made in the membership of the Collaboration, members Glaxo Wellcome plc, Research Triangle Park, NC; and SmithKline Beecham plc, Philadelphia, PA have merged by agreeing to be acquired by a common parent company, GlaxoSmithKline plc., Research Triangle Park, NC.

No other changes have been made in either the membership or planned activity of the Collaboration. Membership in the Collaboration remains open, and the Collaboration intends to file additional written notification disclosing all changes in membership.

On May 27, 1993, the Collaboration filed its original notification pursuant to Section 6 (a) of the Act. The Department of Justice published a notice in the Federal Register pursuant to Section 6 (b) of the Act on July 6, 1993 (58 FR 36223).

The last notification was filed with the Department on August 18, 2000. A notice was published in the Federal Register pursuant to Section 6 (b) of the Act on October 6, 2000, (65 FR 59874).

Constance K. Robinson,
Director of Operations, Antitrust Division.

[FR Doc. 01-13771 Filed 5-31-01; 8:45 am]

BILLING CODE 4410-11-M